DEPARTMENT OF COMMERCE

Census Bureau

2020 Census Tribal Consultation; Virtual Public Meeting

AGENCY: Census Bureau, Department of Commerce.

ACTION: Notice of meeting.

SUMMARY: The Census Bureau will conduct a tribal consultation on the next set of 2020 Census Data Products on March 24, 2022, via national webinar, and review the 2010 Demonstration Data Product—Demographic and Housing Characteristics File (DHC). The tribal consultation meeting reflects the Census Bureau's continuous commitment to strengthen nation-to-nation relationships with federally recognized tribes. The Census Bureau's procedures for outreach, notice, and consultation ensure involvement of tribes, to the extent practicable and permitted by law, before making decisions or implementing policies, rules, or programs that affect federally recognized tribal governments. These meetings are open to citizens of federally and state recognized tribes by invitation. In that regard, the Census Bureau is seeking comments on the 2010 Demonstration Data—DHC, and asking tribal governments to identify the problematic table, level of geography, and a description of the use case, along with the likely implications should the data be released as-is. Tribes will have four weeks after consultation to analyze the 2010 Demonstration Data Product—DHC.

DATES: The Census Bureau will conduct the tribal consultation webinar on Thursday, March 24, 2022, from 3:00 p.m. to 4:30 p.m. EDT. Any questions or topics to be considered in the tribal consultation meetings must be received in writing via email by Tuesday, March 22, 2022.

ADDRESSES: The Census Bureau tribal consultation webinar meeting will be held via the WebEx platform at the following presentation link: https://uscensus.webex.com/uscensus/j.php?MTID=mbbb8b045ae75775d741beb2e914814e3 Submit your comments by email. Send comments to: OCIA.TAO@census.gov.

FOR FURTHER INFORMATION CONTACT: Van Lawrence, Acting Tribal Affairs Coordinator, Office of Congressional and Intergovernmental Affairs, Intergovernmental Affairs Office, U.S. Census Bureau, Washington, DC 20233; telephone (301) 763-6100; or email at ocia.tao@census.gov.

SUPPLEMENTARY INFORMATION: The Census Bureau is planning one national webinar on March 24, 2022, with federally and state recognized tribes, which will provide a forum for tribes to review the 2010 Demonstration Data Product—Demographic and Housing Characteristics File (DHC). This demonstration data product represents the most recent development version of the 2020 Census Disclosure Avoidance System (DAS) applied to published 2010 Census Data. The 2010 Demonstration Data Product—DHC will provide demographic and housing characteristics, including age, sex, race, Hispanic or Latino origin, relationship to householder, household type, couple type, housing tenure and vacancy. Some subjects are repeated by major OMB race/ethnicity groups for the household and group quarters population. Specifically, based on your analysis, we would like to know which data would be deemed unusable for your use cases. It will be helpful if you can identify the problematic table, level of geography, and a description of the use case, along with the likely implications should the data be released as-is.

In accordance with Executive Order 13175, Consultation and Coordination with Indian Tribal Governments, issued November 6, 2000, the Census Bureau has adhered to its tribal consultation policy by seeking the input of tribal governments in the planning and implementation of the 2020 Census with the goal of ensuring the most accurate counts and data for the American Indian and Alaska Native population. In that regard, the Census Bureau is seeking comments on the 2010 Demonstration Data Product—DHC and is reviewing feedback received on the Detailed DHC tables.

Demographic and Housing Characteristics File (DHC)

The DHC will include some of the demographic and housing tables previously included in the 2010 Census Summary File 1 (SF1).

• Subjects: Age, sex, race, Hispanic or Latino origin, household type, family type, relationship to householder, group quarters population, housing occupancy, and housing tenure. Some subjects are repeated for major OMB race/ethnicity groups.

• Access: data.census.gov.

• Lowest level of geography: To be determined.

• Production Date: Tentatively 2022.

Detailed Demographic and Housing Characteristics (Detailed DHC)

The Detailed DHC will provide population counts, as well as demographic and housing statistics for detailed racial and ethnic groups, and American Indian and Alaska Native tribes and villages. These types of statistics were previously included in the 2010 Census Summary File 2 (SF2) and the 2010 American Indian and Alaska Native Summary File (AIANSF). In addition, the Detailed DHC will include a few tables from the 2010 Summary File 1 (SF1) that are not included in the DHC.

• Subjects: Detailed racial and ethnic groups, American Indian and Alaska Native tribes and villages, and complex household composition and characteristics tables (e.g., population in occupied housing units) not included in DHC.

• Access: data.census.gov.

• Lowest level of geography: To be determined.

• Date: To be determined.

Information about the content of these data products was released on September 16, 2021. Tribes will have four weeks after consultation to analyze the 2010 Demonstration Data Product—DHC.

1. Input and comments due by April 21, 2022. Submit your comments by email. Send comments to: Melissa.K.Bruce@census.gov or OCIA.TAO@census.gov.

Robert L. Santos, Director, Census Bureau, approved the publication of this Notice in the Federal Register.

Dated: March 3, 2022.
Sheleen Dumas,
Department PRA Clearance Officer, Office of the Chief Information Officer, Commerce Department.

[FR Doc. 2022-04924 Filed 3-8-22; 8:45 am]

BILLING CODE 3510-07-P